Proclamation 9905 of June 7, 2019

Flag Day and National Flag Week, 2019

By the President of the United States of America

A Proclamation

On Flag Day and during National Flag Week, we celebrate and honor our Nation's lasting emblem, our great American flag. Since the Second Continental Congress adopted its design more than 200 years ago, the Stars and Stripes has been a powerful symbol of freedom, hope, and opportunity. We fly Old Glory from government buildings, schools, city halls, police and fire stations, stores, offices, and our front porches. Wherever Americans are gathered—sporting events, places of worship, parades, and rallies—our flag waves proudly, representing the enduring spirit of our country.

The American flag helps us to never forget the values of our Republic, and the valor of the men and women in uniform who have defended it. When we look at the red, white, and blue, we are filled with the same spirit of patriotism that stirred Francis Scott Key to pen the “Star Spangled Banner” during the withering bombardment of Fort McHenry in 1812. We are reminded of the blood spilled across generations to safeguard liberty. We are prompted to reflect with pride on the purity and righteousness of our cause—the same pride that swelled in the hearts of our boys as they took the beaches of Normandy, and as they raised the flag on Iwo Jima. And we are strengthened in our resolve to pursue justice and safeguard the rule of law, so that freedom can march on.

Today, and all throughout the week, let us recommit ourselves to the principles upon which our country was founded. With grateful hearts, let us reflect upon the price of freedom, and the brave souls who gave their last full measure to preserve it. As we raise our flag, as we stand and salute or place our hands over our hearts, let us renew our sacred pledge that we will forever remain “one Nation under God, indivisible, with liberty and justice for all.”

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, DONALD J. TRUMP, President of the United States of America, do hereby proclaim June 14, 2019, as Flag Day, and the week starting June 9, 2019, as National Flag Week. I direct the appropriate officials to display the flag on all Federal Government buildings during this week, and I urge all Americans to observe Flag Day and National Flag Week by displaying the flag. I also encourage the people of the United States to observe with pride and all due ceremony those days from Flag Day through Independence Day, set aside by the Congress (89 Stat. 211), as a time to honor America, to celebrate our heritage in public gatherings and activities, and to publicly recite the Pledge of Allegiance to the Flag of the United States of America.

IN WITNESS WHEREOF, I have hereunto set my hand this seventh day of June, in the year of our Lord two thousand nineteen, and of the Independence of the United States of America the two hundred and forty-third.

[FR Doc. 2019-12697

Filed 6-12-19; 11:15 am]

Billing code 3295-F9-P